DEPARTMENT OF DEFENSE

Department of the Air Force

U.S. Air Force Scientific Advisory Board Notice of Meeting

AGENCY: U.S. Air Force Scientific Advisory Board, Department of the Air Force, DOT.

ACTION: Meeting Notice.

SUMMARY: Under the provisions of the Federal Advisory Committee Act of 1972 (5 U.S.C., Appendix, as amended), the Government in the Sunshine Act of 1976 (5 U.S.C. 552b, as amended), and 41 CFR 102-3.150, the Department of Defense announces that a United States Air Force Scientific Advisory Board (SAB) quarterly meeting will take place 15-16 January 2013 at the SAFTAS Conference and Innovation Center, 1550 Crystal Drive, Plaza Level, Arlington, VA 22202. The SAB will meet 15 January 2013, from 7:45 a.m. to 5:00 p.m., with the sessions from 7:45 a.m.-9:45 a.m. and 4:30 p.m.-5:00 p.m., open to the public. The meeting on 16 January 2013 will be from 07:45 a.m.-11:45 a.m. and is closed to the public.

The purpose of this Air Force Scientific Advisory Board quarterly meeting is to introduce the FY13 SAB study topics tasked by the Secretary of the Air Force: countering electro-optical and infrared targeting system threats to our aircraft, disaggregation of satellite mission applications, and communicating in a contested environment. The SAB will receive presentations that address relevant subjects to these studies and the SAB mission. This board meeting will also include the publication status of the FY12 studies, the latest updates on the ongoing study outbriefs, as well as discussion of the SAB's review of Air Force Research Laboratory (AFRL) science and technology investments. The remaining FY13 Board schedule will also be discussed.

In accordance with 5 U.S.C. 552b, as amended, and 41 CFR 102-3.155, The Administrative Assistant of the Air Force, in consultation with the Air Force General Counsel, has agreed that the public interest requires some sessions of the United States Air Force Scientific Advisory Board meeting be closed to the public because they will discuss information and matters covered by sections 5 U.S.C. 552b(c) (1). Any member of the public wishing to provide input to the SAB should submit a written statement in accordance with 41 CFR 102-3.140(c) and section 10(a)(3) of the Federal Advisory Committee Act and the procedures described in this paragraph. Written statements can be submitted to the Designated Federal Officer at the address detailed below at any time. Statements being submitted in response to the agenda mentioned in this notice must be received by the Designated Federal Officer at the address listed below at least five calendar days prior to the meeting which is the subject of this notice. Written statements received after this date may not be provided to or considered by the SAB until its next meeting. The Designated Federal Officer will review all timely submissions with the SAB Chairperson and ensure they are provided to members of the SAB before the meeting that is the subject of this notice.

FOR FURTHER INFORMATION CONTACT: The United States Air Force Scientific Advisory Board Deputy Executive Director and Designated Federal Officer, Lt Col Derek Lincoln, 240-612-5502, AF/SB, 1500 West Perimeter Road, Ste. #3300, Joint Base Andrews, MD 20762, Derek.Lincoln@pentagon.af.mil.

Henry Williams Jr,
DAF, Acting Air Force Federal Register Liaison Officer.

[FR Doc. 2012-29588 Filed 12-6-12; 8:45 am]

BILLING CODE 5001-10-P